DEPARTMENT OF AGRICULTURE

Agricultural Marketing Service

7 CFR Part 996

[Docket No. FV03-996-2C]

Change in Minimum Quality and Handling Standards for Domestic and Imported Peanuts Marketed in the United States; Corrections

AGENCY: Agricultural Marketing Service, USDA.

ACTION: Corrections to interim final rule.

SUMMARY: The Agricultural Marketing Service published an interim final rule in the Federal Register on August 7, 2003 (68 FR 46919), which changed the minimum quality and handling standards for domestic and imported peanuts marketed in the United States. A table specifying minimum quality standards in that rule contained several errors. This document corrects those errors.

EFFECTIVE DATE: September 11, 2003.

FOR FURTHER INFORMATION CONTACT: Kenneth G. Johnson, DC Marketing Field Office, Fruit and Vegetable Programs, AMS, USDA, Suite 2A04, Unit 155, Room 2A38, 4700 River Road, Riverdale, Maryland 20737; telephone: (301) 734-5243, Fax: (301) 734-5275.

SUPPLEMENTARY INFORMATION:

Background

AMS published an interim final rule that changed peanut quality and handling standards for domestic and imported peanuts marketed in the United States. The interim final rule was issued under section 1308 of the Farm Security and Rural Investment Act of 2002 (Public Law 107-171; 7 U.S.C. 7958).

Need for Correction

As published, the Minimum Quality Standards table (table) following paragraph (a) in § 996.31 contained several errors. The heading “Unshelled peanuts and damaged kernels and defects” should have read “ Unshelled peanuts and damaged kernels and minor defects”. Under that heading for No. 2 Virginia peanuts, the number 2.50 should have been 3.00. Also, in the type and grade category column of the table, the percentage of split kernels (not less than 90 percent splits) was not included for Spanish and Valencia peanuts. This notation should have been included to be consistent with the Runner and Virginia peanut variety listings for lots of “splits”. This correction document makes these changes.

Correction to Publication

Accordingly, the publication on August 7, 2003 (68 FR 46919), which is the subject of FR Doc. 03-20158, is corrected as follows:

1. On page 46924, following paragraph (a) in § 996.31 the “Minimum Quality Standards” table is corrected to read as follows:

§ 996.31 Outgoing Quality Requirements

(a) * * *

Minimum Quality Standards—Peanuts for Human Consumption
[Whole kernels and splits: Maximum limitations]
Type and grade category | Unshelled peanuts and damaged kernels (percent) | Unshelled peanuts and damaged kernels and minor defects (percent) | Total fall through Sound whole kernels and/or sound split and broken kernels | Foreign materials (percent) | Moisture (percent)
Excluding Lots of “splits”
Runner | 1.50 | 2.50 | 6.00%; 17/64 inch round screen | .20 | 9.00
Virginia (except No. 2) | 1.50 | 2.50 | 6.00%; 17/64 inch round screen | .20 | 9.00
Spanish and Valencia | 1.50 | 2.50 | 6.00%; 16/64 inch round screen | .20 | 9.00
No. 2 Virginia | 1.50 | 3.00 | 6.00%; 17/64 inch round screen | .20 | 9.00
Runner with splits (not more than 15% sound splits) | 1.50 | 2.50 | 6.00%; 17/64 inch round screen | .20 | 9.00
Virginia with splits (not more than 15% sound splits) | 1.50 | 2.50 | 6.00%; 17/64 inch round screen | .20 | 9.00
Spanish and Valencia with splits (not more than 15% sound splits) | 1.50 | 2.50 | 6.00%; 16/64 inch round screen | .20 | 9.00
Lots of “splits”
Runner (not less than 90% splits) | 2.00 | 2.50 | 6.00%; 17/64 inch round screen | .20 | 9.00
Virginia (not less than 90% splits) | 2.00 | 2.50 | 6.00%; 17/64 inch round screen | .20 | 9.00
Spanish and Valencia (not less than 90% splits) | 2.00 | 2.50 | 6.00%; 16/64 inch round screen | .20 | 9.00

Dated: September 8, 2003.
A J. Yates,
Administrator, Agricultural Marketing Service.

[FR Doc. 03-23208 Filed 9-10-03; 8:45 am]

BILLING CODE 3410-02-P